DEPARTMENT OF STATE

[Delegation of Authority No. 323]

Re-Delegation From the Deputy Secretary of State of Certain Authorities During the Transition Period

By virtue of the authority vested in the Secretary of State by the laws of the United States, and delegated to me by Delegation of Authority 245, dated April 23, 2001, I hereby delegate to the following officials to the extent authorized by law all authorities vested in the specified positions, including all authorities vested in the Secretary of State that have been or may be delegated or redelegated to those positions:

• To Deputy Assistant Secretary Steven J. Rodriguez, the authorities of the Assistant Secretary for Administration.

• To Deputy Assistant Secretary Eliot Kang, the authorities of the Assistant Secretary for International Security and Nonproliferation.

• To Deputy Spokesman, Robert A. Wood, the authorities of the Assistant Secretary for Public Affairs.

• To Deputy Assistant Secretary James L. Millette, the authorities of the Assistant Secretary for Resource Management.

• To Deputy Assistant Secretary Karin L. Look, the authorities of the Assistant Secretary for Verification, Compliance and Implementation.

• To Assistant Chief of Protocol for Diplomatic Affairs, Gladys Boluda authorities of the Chief of Protocol.

• To the Deputy Director, Edward Lacey, the authorities of the Director of Policy Planning.

• To Ruth E. Bennett, the authorities of the Senior Adviser on Women's Empowerment and the Director of the Office of International Women's Issues.

• To Nan E. Kennelly, the authorities of the Director of the Office to Monitor and Combat Trafficking in Persons.

Any authorities covered by this delegation are also hereby delegated to the Deputy Secretary for Management and Resources, the Under Secretary for Political Affairs and the Under Secretary for Management, and may also be exercised by the Secretary and the Deputy Secretary. Nothing in this delegation of authority shall be deemed to supersede any existing delegation of authority, which shall remain in full force and effect during and after this delegation.

This delegation shall become effective at noon on January 20, 2009, and shall expire upon the appointment and entry upon duty in each specific case of a subsequently appointed individual to serve in the respective position.

This memorandum shall be published in the Federal Register.

Dated: January 16, 2009.
John D. Negroponte,
Deputy Secretary of State.

[FR Doc. E9-1928 Filed 1-28-09; 8:45 am]

BILLING CODE 4710-10-P